DEPARTMENT OF THE INTERIOR

Bureau of Ocean Energy Management

[MMAA 104000]

Outer Continental Shelf (OCS), Gulf of Mexico (GOM), Oil and Gas Lease Sales for 2017-2022

AGENCY: Bureau of Ocean Energy Management (BOEM), Interior.

ACTION: Notice of intent to prepare an Environmental Impact Statement and notice of public scoping meetings.

SUMMARY: Consistent with the regulations implementing the National Environmental Policy Act (NEPA) (42 U.S.C. 4321 et seq.), BOEM is announcing its intent to prepare an Environmental Impact Statement (2017-2022 Gulf of Mexico Multisale EIS) on the Gulf of Mexico (GOM) oil and gas lease sales tentatively proposed in the 2017-2022 Outer Continental Shelf (OCS) Oil and Gas Leasing Draft Proposed Program (2017-2022 Draft Proposed Program). This Notice of Intent (NOI) serves to announce the EIS scoping process and scoping meetings for the 2017-2022 Gulf of Mexico Multisale EIS. Due to the lead time to prepare an EIS, BOEM will begin preparation of the 2017-2022 Gulf of Mexico Multisale EIS prior to the 2017-2022 OCS Oil and Gas Leasing Program being finalized. Should the GOM lease sales ultimately included in the 2017-2022 OCS Oil and Gas Leasing Program differ substantially from those proposed in the 2017-2022 Draft Proposed Program, BOEM will incorporate those changes into the 2017-2022 Gulf of Mexico Multisale EIS, as appropriate.

Section 18 of the OCS Lands Act (43 U.S.C. 1344) requires the development of an OCS oil and gas leasing program every five years, setting forth a five-year schedule of lease sales designed to best meet the Nation's energy needs. The lease sales proposed in the GOM in the 2017-2022 Draft Proposed Program are region-wide sales comprised of the Western, Central, and a small portion of the Eastern Planning Areas in the GOM not subject to Congressional moratorium. These planning areas are located offshore the States of Texas, Louisiana, Mississippi, Alabama, and Florida. Should the 2017-2022 OCS Oil and Gas Leasing Program include GOM-wide sales, any individual lease sale could still be scaled back during the pre-lease sale process to offer a smaller area should circumstances warrant. For example, an individual lease sale could offer an area that conforms more closely to the separate planning area model used in the 2012-2017 OCS Oil and Gas Leasing Program.

SUPPLEMENTARY INFORMATION: Regulations implementing NEPA encourage agencies to analyze similar or related proposals in one EIS (40 CFR 1508.25). Since each lease sale and ensuing OCS activities are similar each year in each sale area, BOEM is preparing a single 2017-2022 Gulf of Mexico Multisale EIS for the lease sales proposed to be held in the GOM during the program. The 2017-2022 Gulf of Mexico Multisale EIS will eliminate the repetition of annual draft and final EISs for each proposed lease sale. The Multisale EIS approach allows for subsequent NEPA analysis to focus on changes in the proposed sales and on new issues and information. The resource estimates and scenario information for the 2017-2022 Multisale EIS will include a range that encompasses the resources and activities estimated for any of the proposed lease sales. At the completion of this Multisale EIS process, a decision will be made for the first lease sale in the GOM. Thereafter, BOEM will conduct a NEPA review for each of the remaining proposed lease sales in the 2017-2022 OCS Oil and Gas Leasing Program.

The 2017-2022 Gulf of Mexico Multisale EIS analysis will focus on the potential environmental effects from oil and natural gas leasing, exploration, development, and production on all available acreage in the GOM, including the Western and Central Planning Areas and the portion of the Eastern Planning Area not subject to Congressional moratorium. In addition to the no action alternative (i.e., cancel the sale), other alternatives will be considered for each proposed lease sale, such as offering individual or multiple planning areas for lease (rather than GOM-wide) and potentially deferring certain areas from the proposed lease sales in addition to those considered in the 2017-2022 OCS Oil and Gas Leasing Program.

Pursuant to OCSLA, BOEM will separately publish a Call for Information and Nominations (Call) to request and gather information to determine the Area Identification (ID) for each sale. The Call will invite potential bidders to nominate areas of interest within the program area(s) included in the 2017-2022 OCS Oil and Gas Leasing Program. The Call is also an opportunity for the public to provide information on environmental, socioeconomic, and other considerations relevant to determining the Area ID. Using information provided in response to the Call and from scoping comments resulting from this NOI, BOEM will then develop an Area ID Memorandum and identify the area for environmental analysis and consideration for leasing. All of this information will be used to develop a range of alternatives for the 2017-2022 Gulf of Mexico Multisale EIS.

Scoping Process: This NOI serves to announce the scoping process for identifying issues and potential alternatives for consideration in the 2017-2022 Gulf of Mexico Multisale EIS. Throughout the scoping process, Federal, State, Tribal, and local governments and the general public have the opportunity to help BOEM determine significant resources and issues, impacting factors, reasonable alternatives, and potential mitigating measures to be analyzed in the EIS and to provide additional information. BOEM will also use the NEPA commenting process to initiate the Section 106 consultation process of the National Historic Preservation Act (54 U.S.C. 300101 et seq.), as provided in 36 CFR 800.2(d)(3).

BOEM typically prepares technical reports that allow for detailed technical information to be incorporated by reference into EISs (40 CFR 1502.21). BOEM proposes to develop technical reports for this purpose, which will be publicly available and may replace and update appendices used in previous lease sale EISs (e.g., the 2012-2017 Western Planning Area/Central Planning Area Multisale EIS and the 2014-2016 Eastern Planning Area Multisale EIS), such as the “Catastrophic Spill Event Analysis,” “BOEM-OSRA Catastrophic Run,” and “Essential Fish Habitat Assessment.” BOEM proposes to incorporate by reference other technical information from air quality modeling, the Gulfwide Offshore Activity Data System (an air emissions inventory system), and a methodology paper related to the exploration and development scenario. These reports will be summarized and incorporated by reference in the 2017-2022 GOM Multisale EIS and will be made publicly available on BOEM's Web site http://www.boem.gov/Gulf-of-Mexico-Region/. BOEM is soliciting input on these examples and other topics that would be conducive to reducing the size of the 2017-2022 Gulf of Mexico Multisale EIS and future NEPA documents.

BOEM is also soliciting comments to identify significant environmental issues deserving study, but also to deemphasize insignificant issues, thus streamlining the analyses and narrowing the scope of the EIS process accordingly (40 CFR 1501.7). BOEM has reviewed the environmental and socioeconomic resources analyzed in the 2012-2017 Western Planning Area/Central Planning Area Multisale EIS, 2014-2016 Eastern Planning Area Multisale EIS, and the resulting Supplemental EISs and is therefore proposing the following list of resources to be analyzed in the 2017-2022 Gulf of Mexico Multisale EIS:

• Air Quality

• Water Quality

○ Coastal

○ Offshore

• Coastal Habitats

○ Wetlands

○ Dunes and Beaches

• Deepwater Habitats

○ Chemosynthetic Communities

○ Deepwater Corals

○ Sargassum

• Live Bottom Habitats

○ Topographic Features

○ Pinnacles (Low Relief)

○ Inshore Reefs

○ Seagrass

• Fishes and Invertebrate Resources

• Coastal and Migratory Bird Resources

• Protected Species

○ ESA Species' List (Protected Birds and Protected Fish)

○ Sea Turtles

○ Diamondback Terrapins

○ Beach Mice

○ Marine Mammals

• Archaeological Resources

○ Historic

○ Prehistoric

• Commercial Fisheries

• Recreational Fishing

• Recreational Resources

• Human Resources and Land Use

○ Land Use and Coastal Infrastructure

○ Demographics

○ Economic Factors

○ Environmental Justice

Pursuant to the regulations implementing the procedural provisions of NEPA (42 U.S.C. 1501.7), BOEM will hold public scoping meetings in Texas, Louisiana, Mississippi, Alabama, and Florida. BOEM's scoping meetings will be held at the following places and times:

• New Orleans, Louisiana: Tuesday, May 12, 2015, BOEM, Gulf of Mexico OCS Region, 1201 Elmwood Park Boulevard, New Orleans, Louisiana 70123, one meeting beginning at 1:00 p.m. CDT.

• Houston, Texas: Thursday, May 14, 2015, Hilton Garden Inn Houston/Bush Intercontinental Airport, 15400 John F. Kennedy Boulevard, Houston, Texas 77032, one meeting beginning at 1:00 p.m. CDT.

• Panama City, Florida: Tuesday, May 19, 2015, Hilton Garden Inn Panama City, 1101 US Highway 231, Panama City, Florida 32405, one meeting beginning at 6:00 p.m. CDT.

• Mobile, Alabama: Wednesday, May 20, 2015, Hilton Garden Inn Mobile West, 828 West I-65 Service Road South, Mobile, Alabama 36609, one meeting beginning at 3:00 p.m. CDT.

• Gulfport, Mississippi: Thursday, May 21, 2015, Courtyard by Marriott, Gulfport Beachfront MS Hotel, 1600 East Beach Boulevard, Gulfport, Mississippi 39501, one meeting beginning at 3:00 p.m. CDT.

Cooperating Agencies: BOEM invites other Federal, State, Tribal, and local governments to consider becoming cooperating agencies in the preparation of the 2017-2022 Gulf of Mexico Multisale EIS. We invite qualified government entities to inquire about cooperating agency status for this EIS. Following the guidelines from the Council on Environmental Quality (CEQ), qualified agencies and governments are those with “jurisdiction by law or special expertise.” Potential cooperating agencies should consider their authority and capacity to assume the responsibilities of a cooperating agency and should remember that an agency's role in the environmental analysis neither enlarges nor diminishes the final decision making authority of any other agency involved in the NEPA process. Upon request, BOEM will provide potential cooperating agencies with a written summary of expectations for cooperating agencies, including time schedules and critical action dates, milestones, responsibilities, scope and detail of cooperating agencies' contributions, and availability of predecisional information. BOEM anticipates this summary will form the basis for a Memorandum of Agreement between BOEM and any cooperating agency. Agencies should also consider the “Factors for Determining Cooperating Agency Status” in Attachment 1 to CEQ's January 30, 2002, Memorandum for the Heads of Federal Agencies: Cooperating Agencies in Implementing the Procedural Requirements of the National Environmental Policy Act. This document is available on the Internet at http://energy.gov/sites/prod/files/nepapub/nepa_documents/RedDont/G-CEQ-CoopAgenciesImplem.pdf.

BOEM, as the lead agency, will not provide financial assistance to cooperating agencies. Even if an organization is not a cooperating agency, opportunities will exist to provide information and comments to BOEM during the normal public input stages of the NEPA process.

Comments: Federal agencies; Tribal, State, and local governments; and other interested parties are requested to send their written comments on the scope of the 2017-2022 Gulf of Mexico Multisale EIS, significant issues that should be addressed, and alternatives that should be considered one of the following ways:

1. In written form enclosed in an envelope labeled “Comments on the 2017-2022 GOM Multisale EIS” and mailed (or hand carried) to Mr. Gary D. Goeke, Chief, Environmental Assessment Section, Office of Environment (GM 623E), BOEM, Gulf of Mexico OCS Region, 1201 Elmwood Park Boulevard, New Orleans, Louisiana 70123-2394;

2. Through the regulations.gov web portal: Navigate to http://www.regulations.gov and search for “Oil and Gas Lease Sales: Gulf of Mexico, Outer Continental Shelf; 2017-2022 GOM Multisale EIS” (Note: It is important to include the quotation marks in your search terms.) Click on the “Comment Now!” button to the right of the document link. Enter your information and comment, then click “Submit”; or

3. BOEM email address: multisaleeis2017-2022@boem.gov.

It is BOEM's practice to make comments, including the names and addresses of respondents, available for public review. BOEM does not consider anonymous comments. Please include your name and address as part of your submittal. Individual respondents may request that BOEM withhold their names and/or addresses from the public record, but BOEM cannot guarantee that it will be able to do so. If you wish your name and/or address to be withheld, you must state your preference prominently at the beginning of your comment. All submissions from organizations or businesses, and from individuals identifying themselves as representatives or officials of organizations or businesses, will be made available for public inspection in their entirety.

DATES: Comments should be submitted no later than May 29, 2015 to the address specified above.

FOR FURTHER INFORMATION CONTACT: For information on the 2017-2022 Gulf of Mexico Multisale EIS, the submission of comments, or BOEM's policies associated with this notice, please contact Mr. Gary D. Goeke, Chief, Environmental Assessment Section, Office of Environment (GM 623E), BOEM, Gulf of Mexico OCS Region, 1201 Elmwood Park Boulevard, New Orleans, Louisiana 70123-2394, telephone 504-736-3233.

Authority: This NOI is published pursuant to the regulations (40 CFR 1501.7) implementing the provisions of NEPA.

Dated: April 16, 2015.
Abigail Ross Hopper,
Director, Bureau of Ocean Energy Management.

[FR Doc. 2015-10035 Filed 4-28-15; 8:45 am]

BILLING CODE 4310-MR-P